DEPARTMENT OF THE INTERIOR

Bureau of Land Management

[WO-210-05-1610-DP]

Notice of Availability of a Draft Environmental Impact Statement

AGENCY: Bureau of Land Management, Department of the Interior.

ACTION: Notice of availability of a Draft Environmental Impact Statement (DEIS) for the Draft Resource Management Plan for the Arizona Strip, the Vermilion Cliffs National Monument, and the Grand Canyon-Parashant National Monument and a Draft General Management Plan for the Grand Canyon-Parashant National Monument (Arizona Strip Draft Plan/DEIS).

DATES: Written comments on the Arizona Strip Draft Plan/DEIS will be accepted for 90 days following the date the Environmental Protection Agency (EPA) publishes its Notice of Availability in the Federal Register.

ADDRESSES: If you wish to comment, you may submit your comments by any one of several methods. You may mail comments to Arizona Strip District Office, 345 East Riverside Drive, St. George, Utah 84790. You may also comment via e-mail to Arizona_Strip@blm.gov. You may hand deliver comments to Arizona Strip District Office, 345 East Riverside Drive, St. George, Utah 87490 or at any one of the public meetings. Our practice is to make comments, including names and home address of respondents, available for public review during regular business hours. Individual respondents may request that we withhold their home address from the record, which we will honor to the extent allowable by law. There also may be circumstances in which we would withhold from the record a respondent's identify, as allowable by law. If you wish us to withhold your name and/or address, you must state this prominently at the beginning of your comment. However, we will not consider anonymous comments. We will make all submissions from organizations or businesses, and from individuals identifying themselves as representatives, or officials of organizations or businesses available for public inspection in their entirety.

FOR FURTHER INFORMATION CONTACT: Planning Team, Arizona Strip District Office, BLM, 345 East Riverside Drive, St. George, UT 84790.

SUPPLEMENTARY INFORMATION: A limited number of individual copies of the DEIS may be obtained from the above contact. Copies are also available for inspection at the following locations.

• Washington County Public Library, St. George, Utah.

• Fredonia Town Library, Fredonia, Arizona.

• Page Public Library, Page, Arizona.

• Kingman Branch Library, Kingman, Arizona.

• Flagstaff Public Library, Flagstaff, Arizona.

Public meetings will be held on the DEIS at Beaver Dam, Kingman, Flagstaff, Marble Canyon, Kaibab Village, Phoenix, and Page, Arizona; St. George, Utah; and Las Vegas, Nevada. Check local newspapers for exact dates, times, and locations.

Willie R. Taylor,
Director, Office of Environmental Policy and Compliance.

[FR Doc. 05-23315 Filed 11-23-05; 8:45 am]

BILLING CODE 4310-32-M